ENVIRONMENTAL PROTECTION AGENCY

[ER-FRL-6671-8]

Environmental Impact Statements; Notice of Availability

Responsible Agency: Office of Federal Activities. General Information: (202) 564-7167 or http://www.epa.gov/compliance/nepa/.

Weekly receipt of Environmental Impact Statements filed 01/23/2006 through 01/27/2006.

Pursuant to 40 CFR 1506.9.

EIS No. 20060030, Final Supplement, COE, IL, Sugar Creek Municipal Water Supply, Updated Information, Proposed New 1172 Acre Water Supply Reservoir, Construction, COE Section 404 Permit Issuance, City of Marion, Williamson and Johnson Counties, IL. Wait Period Ends: 03/06/2006. Contact: Greg McKay 502-315-6685.

EIS No. 20060031, Final EIS, NPS, ME, Schoodic General Management Plan Amendment, Implementation, Acadia National Park, ME. Wait Period Ends: 03/06/2006. Contact: John T. Kelly 207-288-8703.

EIS No. 20060032, Draft EIS, AFS, AK, Kuiu Timber Sale Area, Proposes to Harvest Timber and Build Associated Temporary Roads, U.S. Army COE Section 10 and 404 Permits, North Kuiu Island, Petersburg Ranger District, Tongass National Forest, AK. Comment Period Ends: 03/20/2006. Contact: Kris Rutledge 907-772-5905.

EIS No. 20060033, Final EIS, FRA, CA, Los Angeles Union Station Run-Through Tracks Project, Pedestrian Access Improvements, Connectivity and Increase the Capacity, City of Los Angeles, Los Angeles County, CA. Wait Period Ends: 03/06/2006. Contact: David Valenstein 202-493-6368.

EIS No. 20060034, Draft EIS, NRC, MN, Generic—License Renewal of Nuclear Plants, Supplement 26 to NUREG 1437, Regarding Monticello Nuclear Generating Plant (TAC NO. MC6441) Renewal of Opeating License DRP-22 for Additional 20 Years of Operation, Mississippi River, City of Monticello, Wright County, MN. Comment Period Ends: 05/04/2006. Contact: Jennifer A. Davis 301-415-3835.

Amended Notices

EIS No. 20050382, Draft EIS, BIA, WI,Menominee Casino-Hotel 223-Acre Fee-to-Trust Transfer and Casino Project, Implementation, Federal Trust, Menominee Indian Tribe of Wisconsin (Tribe), in City of Kenosha and County of Kenosha, WI. Comment Period Ends: 03/06/2006. Contact: Herb Nelson 612-725-4510. Revision on FR Notice Published 09/23/2005. Reopening Comment Period that Ended on 11/21/2005 to 03/06/2006.

EIS No. 20050452, Draft EIS, BLM, NM, Kasha-Katuwe Tent Rocks National Monument Resource Management Plan, Implementation, Rio Puerco Field Office, Sandoval County, NM. Comment Period Ends: 02/17/2006. Contact: John Bristol 505-761-8755. Revision of FR Notice Published 11/04/2005: Comment Period Extended from 02/02/2006 to 02/17/2006.

EIS No. 20050520, Draft EIS, BIA, OR, Coyote Business Park, Confederated Tribes of the Umatilla Indian Reservation, Proposes to Develop, Build and Manage a Light Industrial Commercial Business Park, Umatilla County, OR. Comment Period Ends: 02/17/2006. Contact: Jerry L. Lauer 541-278-3786 Revision on FR Notice Published 12/16/2005: Comment Period Extend from 01/30/2006 to 02/17/2006.

EIS No. 20050548, Draft EIS, NPS, NC, North Shore Road, Great Smoky Mountains National Park, General Management Plan, Implementation, Fontana Dam, Swain County, NC. Comment Period Ends: 03/20/2006. Contact: Imelda Wegwerth 865-436-1302. Revision to FR Notice Published 01/06/2006: Comment Period has been Extended from 02/21/2006 to 03/20/2006.

EIS No. 20050555, Final EIS, APH, 00, Adoption—Black-Tailed Prairie Dog Conservation and Management on the Nebraska National Forest and Associated Units, Implementation, Dawes, Sioux Blaine, Cherry, Thomas Counties, NE and Custer, Fall River, Jackson, Pennington, Jones, Lyman, Stanley Counties, SD. Wait Period Ends: 01/30/2006. Contact: Gary A. Littauer 505-346-2632, Ext 232.

U.S. DOA/APH adopted the U.S. DOA/AFS Final EIS #20050330, filed 08-04-2005. APH was a cooperating agency on the project. Recirculation on the document is not necessary under 1506.3(b) of the CEQ Regulations.

Revision of FR Notice Published 12/02/2005: This Adoption should have appeared in FR 12/02/2005.

EIS No. 20060004, Final EIS, FHW, MD, Intercounty Connector (ICC) from I-270 to US1, Funding and U.S. Army COE Section 404 Permit, Montgomery and Prince George's Counties, MD. Wait Period Ends: 02/27/2006. Contact: Dan Johnson 410-779-7154.

Revision of FR Notice Published 01/13/2006: Correction to Wait Period from 02/13/2006 to 02/27/2006.

EIS No. 20060017, Final EIS, AFS, FL, Ocala National Forest Access Designation Process, Roads and Trails Systems Development, Implementation, Lake, Marion and Putnam Counties, FL. Wait Period Ends: 02/21/2006. Contact: Will Ebaugh 850-523-8557.

Revision to FR Notice Published 01/20/2006: Correction to Document Status from Draft to Final EIS.

Dated: January 31, 2006.
Ken Mittelholtz,
Environmental Specialist, Office of Federal Activities.

[FR Doc. E6-1510 Filed 2-2-06; 8:45 am]

BILLING CODE 6560-50-P